DEPARTMENT OF HEALTH AND HUMAN SERVICES

Centers for Disease Control and Prevention

[Docket No. CDC-2021-0106; NIOSH-344]

Interventions To Prevent Work-Related Stress and Support Health Worker Mental Health; Request for Information; Extension of Public Comment Period.

AGENCY: Centers for Disease Control and Prevention, HHS.

ACTION: Extension of public comment period.

SUMMARY: On September 27, 2021, the National Institute for Occupational Safety and Health (NIOSH), within the Centers for Disease Control and Prevention (CDC), in the Department of Health and Human Services (HHS), published a notice announcing an opportunity for the public to provide information and comments on current evidence-based, workplace and occupational safety and health interventions to prevent work-associated stress, support stress reduction, and foster positive mental health and well-being among the nation's health workers. Written and electronic comments were to be received on or before November 26, 2021. NIOSH has decided to extend the comment period to January 25, 2022.

DATES: Comments must be received on or before January 25, 2022.

ADDRESSES: Comments may be submitted through either of the following two methods:

• Federal eRulemaking Portal: http://www.regulations.gov (follow the instructions for submitting comments), or

• By Mail: NIOSH Docket Office, Robert A. Taft Laboratories, MS C-34, 1090 Tusculum Avenue, Cincinnati, Ohio 45226-1998.

Instructions: All written submissions received in response to this notice must include the agency name (Centers for Disease Control and Prevention, HHS) and docket number (CDC-2021-0106; NIOSH-344) for this action. All relevant comments, including any personal information provided, will be posted without change to http://www.regulations.gov.

FOR FURTHER INFORMATION CONTACT: Rachel Weiss, Program Analyst; 1090 Tusculum Ave., MS: C-48, Cincinnati, OH 45226; telephone (855) 818-1629 (this is a toll-free number); email NIOSHregs@cdc.gov.

SUPPLEMENTARY INFORMATION: Under the American Rescue Plan Act of 2021 (Pub. L. 117-2, sec. 2704), CDC is charged with educating health workers and first responders on primary prevention of mental health conditions and substance use disorders and encouraging these professionals to identify and seek support for their own mental health or substance use concerns. Accordingly, on September 27, 2021, CDC's National Institute for Occupational Safety and Health (NIOSH) announced an opportunity for the public to provide information and comments on evidence-based workplace and occupational safety and health interventions, policies, or other activities relevant to health care professionals and first responders, including those at the population, organizational, or individual levels (86 FR 53306). Information and comments were requested on related interventions under development and research in progress. NIOSH also sought information on related best practices, promising practices, or successful programs related to providing stress prevention and mental health services to health workers. The September 27, 2021 request for information is available in docket CDC-2021-0106, which can be found by searching www.regulations.gov.

NIOSH believes it is appropriate to allow additional time for public comment. Accordingly, the public comment period for the request for information is extended to January 25, 2022.

John J. Howard,
Administrator, World Trade Center Health Program and Director, National Institute for Occupational Safety and Health, Centers for Disease Control and Prevention, Department of Health and Human Services.

[FR Doc. 2021-25235 Filed 11-18-21; 8:45 am]

BILLING CODE 4163-18-P